DEPARTMENT OF TRANSPORTATION

[Docket No. DOT-MARAD 2016—0109]

Agency Requests for Renewal of a Previously Approved Information Collection(s): America's Marine Highway Program

AGENCY: Maritime Administration, DOT.

ACTION: Notice and request for comments.

SUMMARY: The Maritime Administration (MARAD) invites public comments about our intention to request the Office of Management and Budget (OMB) approval to renew an information collection. The information to be collected will be used by the Maritime Administration to evaluate and review applications being submitted for project designation. The review will assess factors such as project scope, impact, public benefit, environmental effect, offsetting costs, cost to the government (if any), the likelihood of long-term self-supporting operations, and its relationship with Marine Highway Routes once designated. We are required to publish this notice in the Federal Register by the Paperwork Reduction Act of 1995, Public Law 104-13.

DATES: Written comments should be submitted by December 27, 2016.

ADDRESSES: You may submit comments [identified by Docket No. DOT-MARAD-2016-0109] through one of the following methods:

• Federal eRulemaking Portal: http://www.regulations.gov. Follow the online instructions for submitting comments.

• Fax: 1-202-493-2251.

• Mail or Hand Delivery: Docket Management Facility, U.S. Department of Transportation, 1200 New Jersey Avenue SE., West Building, Room W12-140, Washington, DC 20590, between 9 a.m. and 5 p.m., Monday through Friday, except on Federal holidays.

FOR FURTHER INFORMATION CONTACT: Lauren Brand, Office of Intermodal System Development, Maritime Administration, 1200 New Jersey Avenue SE., Washington, DC 20590. Telephone: 202-366-7057; or email lauren.brand@dot.gov.

SUPPLEMENTARY INFORMATION:

OMB Control Number: 2133-0541.

Title: America's Marine Highway Program.

Form Numbers: None.

Type of Review: Renewal of currently approved information collection.

Background: The Department of Transportation will solicit applications for Marine Highway Projects as specified in the America's Marine Highway Program Final Rule, MARAD-2010-0035, published in the Federal Register on April 9, 2010. These applications must comply with the requirements of the referenced America's Marine Highway Program Final Rule, and be submitted in accordance with the instructions contained in that Final Rule. Open season for Marine Highway Project applications will be from December 31, 2016 through December 31, 2018.

Respondents: State, Local, or Tribal Government and Business or other for-profit.

Number of Respondents: 35.

Frequency: Bi-annually.

Number of Responses: 35.

Total Annual Burden: 350.

Public Comments Invited: You are asked to comment on any aspect of this information collection, including (a) whether the proposed collection of information is necessary for the Department's performance; (b) the accuracy of the estimated burden; (c) ways for the Department to enhance the quality, utility and clarity of the information collection; and (d) ways that the burden could be minimized without reducing the quality of the collected information. The agency will summarize and/or include your comments in the request for OMB's clearance of this information collection.

Authority: The Paperwork Reduction Act of 1995; 44 U.S.C. Chapter 35, as amended; and 49 CFR 1:93.

By Order of the Maritime Administrator.
Dated: October 18, 2016.
T. Mitchell Hudson, Jr.,
Secretary, Maritime Administration.

[FR Doc. 2016-26034 Filed 10-26-16; 8:45 am]

BILLING CODE 4910-81-P